NATIONAL AERONAUTICS AND SPACE ADMINISTRATION

[Notice: (11-066)]

NASA Advisory Council; Meeting

AGENCY: National Aeronautics and Space Administration.

ACTION: Notice of meeting.

SUMMARY: In accordance with the Federal Advisory Committee Act, Public Law 92-463, as amended, the National Aeronautics and Space Administration announces a meeting of the NASA Advisory Council (NAC). The agenda topics for the meeting will include:

DATES: Thursday, August 4, 2011, 8 a.m.-5 p.m., and Friday, August 5, 2011, 8 a.m.-12 p.m., Local Time.

ADDRESSES: NASA Ames Conference Center (Building 3), Ballroom, 500 Severyns Avenue, NASA Research Park, NASA Ames Research Center (ARC), Moffett Field, CA 94035-1000.

FOR FURTHER INFORMATION CONTACT: Ms. Marla King, NAC Administrative Officer, National Aeronautics and Space Administration Headquarters, Washington, DC 20546, 202/358-1148.

SUPPLEMENTARY INFORMATION: The agenda for the meeting will include reports from the NAC Committees:

—Aeronautics.

—Audit, Finance and Analysis.

—Commercial Space.

—Education and Public Outreach.

—Exploration.

—Information Technology Infrastructure.

—Science.

—Space Operations.

—Technology and Innovation.

The meeting will be open to the public up to the seating capacity of the room. This meeting is also available telephonically and by WebEx. You must use a touch tone phone to participate in this meeting. Any interested person may call dial access number, 1-888-806-5185 and then enter the numeric participant passcode: 4533096 followed by the # sign. To join via WebEx the link is https://nasa.webex.com/, meeting number on August 4, 2011, is 998 050 366, and password nac2011! On Friday, August 5, 2011, the meeting number will be 991 219 357, and password nac2011! It is imperative that the meeting be held on this date to accommodate the scheduling priorities of the key participants. Visitors will need to show a valid picture identification such as driver's license to enter into the NASA Research Park, and must state they are attending the NASA Advisory Council meeting in the NASA Ames Research Center Conference Center. All non-U.S. citizens must submit their name, current address, citizenship, company affiliation (if applicable) to include address, telephone number, and their title, place of birth, date of birth, U.S. visa information to include type, number, and expiration date, U.S. Social Security Number (if applicable), Permanent Resident Alien card number and expiration date (if applicable), place and date of entry into the U.S., and passport information to include country of issue, number, and expiration date to Ms. Rho Christensen, Protocol Specialist, Office of the Center Director, NASA Ames Research Center, Moffett Field, CA, by July 28, 2011. For questions, please call Ms. Rho Christensen at (650) 604-2476.

Dated: July 11, 2011.
P. Diane Rausch,
Advisory Committee Management Officer, National Aeronautics and Space Administration.

[FR Doc. 2011-17921 Filed 7-14-11; 8:45 am]

BILLING CODE